DEPARTMENT OF THE TREASURY

Internal Revenue Service

26 CFR Part 1

[TD 9244]

RIN 1545-BC05; 1545-BE88

Determination of Basis of Stock or Securities Received in Exchange for, or With Respect to, Stock or Securities in Certain Transactions; Treatment of Excess Loss Accounts; Correction

AGENCY: Internal Revenue Service (IRS), Treasury.

ACTION: Correction notice to final and temporary regulations.

SUMMARY: This document contains a correction to final and temporary regulations (TD 9244), that was published in the Federal Register on Thursday, January 26, 2006 (71 FR 4264). This regulation provides guidance regarding the determination of the basis of stock or securities received in exchange for, or with respect to stock or securities in certain transactions.

DATES: This correction is effective January 23, 2006.

FOR FURTHER INFORMATION CONTACT: Theresa M. Kolish, (202) 622-3070 (not a toll-free number).

SUPPLEMENTARY INFORMATION:

Background

The final and temporary regulations (TD 9244) that are the subject of these corrections are under sections 356, 358 and 1502 of the Internal Revenue Code.

Need for Correction

As published, TD 9244 contains errors that may prove to be misleading and are in need of clarification.

Correction of Publication

Accordingly, the publication of the final and temporary regulations (TD 9244), that were the subject of FR Doc. 06-585, is corrected as follows:

PART 1—[CORRECTED]

1. On page 4274, column 2, under Par. 5., the language, “3. Revising the paragraph heading for paragraph (h).” is removed.

2. On page 4274, column 3, the language, “Par. 6. Section 1.1502-19T is revised to read as follows:” is corrected to read “Par. 6. Section 1.1502-19T is added to read as follows:”.

Guy R. Traynor,
Chief, Publications and Regulations Branch, Legal Processing Division, Associate Chief Counsel (Procedures and Administration).

[FR Doc. 06-2537 Filed 3-16-06; 8:45 am]

BILLING CODE 4830-01-P